DEPARTMENT OF TRANSPORTATION

Office of the Secretary

[Docket No. DOT-OST-2021-0106]

America's Supply Chains and the Transportation Industrial Base

ACTION: Notice of request for information.

SUMMARY: On February 24, 2021, President Biden issued an Executive Order, “America's Supply Chains,” which directs several Federal agency actions to secure and strengthen America's supply chains. On June 8, 2021, the President also established a Supply Chain Disruptions Task Force—co-chaired by the Secretaries of Transportation, Agriculture, and Commerce—to address near term supply chain challenges, with a focus on alleviating bottlenecks and supply constraints in the transportation sector, particularly for ports, rail, and trucking. The Executive Order requires the Secretary of Transportation to submit, within one year, a report to the President on supply chains for the transportation industrial base. DOT's one-year assessment will build off the work of the Supply Chains Disruption Task Force and focus on the freight and logistics sector, with the goal of strengthening resilience among transportation supply chains. This notice requests information from the public to assist the Department of Transportation in preparing the report required by the Executive Order and solicits practical solutions from a broad range of stakeholders to address current and future challenges to supply chain resilience in the freight and logistics sector.

DATES: Comments must be received on or before October 18, 2021. DOT will consider comments filed after this date to the extent practicable.

ADDRESSES: You may submit comments identified by Docket Number DOT-OST-2021-0106 by any of the following methods:

• Electronic Submission: Go to http://www.regulations.gov. Search by using the docket number (provided above). Follow the instructions for submitting comments on the electronic docket site.

• Mail: Docket Management Facility; U.S. Department of Transportation, 1200 New Jersey Avenue SE, West Building, Ground Floor (W12-140), Washington, DC 20590-0001.

• Hand Delivery: W12-140 of the Department of Transportation, 1200 New Jersey Avenue SE, Washington, DC, between 9 a.m. and 5 p.m., Monday through Friday, except Federal Holidays.

Instructions: All submissions must include the agency name and docket numbers.

Note: All comments received, including any personal information, will be posted without change to the docket and is accessible via http://www.regulations.gov. Input submitted online via www.regulations.gov is not immediately posted to the site. It may take several business days before your submission is posted.

FOR FURTHER INFORMATION CONTACT: Ryan Endorf at ryan.endorf@dot.gov or at 202-366-4835.

SUPPLEMENTARY INFORMATION: Background: On February 24, 2021, President Biden issued Executive Order 14017, “America's Supply Chains” (86 FR 11849) (E.O. 14017). E.O. 14017 focuses on the need for resilient, diverse, and secure supply chains to ensure U.S. economic prosperity and national security. Such supply chains are needed to address conditions that can reduce critical manufacturing capacity and the availability and integrity of critical goods, products, and services. Section 4 of E.O. 14017 directs that within one year, the Secretary of Transportation shall submit a report to the President, through the Assistant to the President for National Security Affairs (APNSA) and the Assistant to the President for Economic Policy (APEP), on supply chains for the transportation industrial base. Per the Executive Order, the Secretary shall determine what constitutes the “transportation industrial base” for purposes of the report. President Biden has also established a Supply Chain Disruptions Task Force—co-chaired by the Secretaries of Transportation, Agriculture, and Commerce—to address near term supply chain challenges, with a focus on alleviating bottlenecks and supply constraints in the transportation sector, particularly for ports, rail, and trucking.

The transportation industry in the U.S. is both vast and varied and underpins much of the economic activity that takes place in other sectors. It includes both the vehicles required to move goods and people and the roads, rails, waterways, and airways over which those vehicles travel. It includes cargo and passenger terminals that provide for the transfer of people and goods between vehicles and modes. It includes the control and information systems that allow the network to operate smoothly and efficiently and enable users to make the most advantageous choices about their use of that network. It includes public and private providers of transportation services and the operation of privately owned personal vehicles.

In fulfilling this requirement, the Department intends to produce a report on the Nation's freight and logistics sector, focused on how the freight system supports supply chains and any challenges and resilience issues within that system. DOT has heard from many stakeholders about issues related to bottlenecks on highways, rail, and at ports, as well as severe container/chassis shortages and lack of adequate warehousing capacity, particularly around the nation's largest ports. The resiliency of the freight system is also a key aspect of supply chain resiliency across the rest of the economy, including the critical products being addressed in the one-year reports being developed by other agencies.

The Department is currently engaged with stakeholders and public agency partners in addressing current issues in freight and logistics through President' Biden's Supply Chain Disruptions Task Force. DOT's E.O. 14017 report will build on those efforts, focusing on challenges and solutions over the medium and longer term while also addressing DOT's goals of safety, economic strength, climate resilience, equity, and transformation.

This notice requests comments and information from the public to assist the Department of Transportation in preparing the report required by E.O. 14017. In developing this report, the Secretary will consult with the heads of appropriate agencies, and will be assisted by the relevant operating administrations of the Department of Transportation.

Written Comments

The Department seeks information from the public on the current challenges faced within the freight and logistics sector, including, but not limited to, the following topics:

1. The identification of major infrastructure or operational bottlenecks and chokepoints across all aspects of the freight and logistics supply chain—including shipping/receiving, intermodal transfer, rail/water/truck transportation, warehousing, etc.—that slow or impede efficient cargo movement within the freight and logistics sector, and the most effective investments and management practice improvements that could be made to alleviate those bottlenecks.

2. Current and potential future shortages and/or distribution limitations of essential cargo-handling equipment, such as chassis and shipping containers, and how these challenges can be or are likely to be addressed by the freight and logistics industry over both the medium and longer term.

3. Warehouse capacity and availability, and any challenges faced in operating and siting/constructing those facilities, as well as challenges faced by third-party logistics service providers and other stakeholders in the logistic system.

4. Major risks to resilience within the freight and logistics sector (including defense, intelligence, cyber, homeland security, health, climate, environmental, natural, market, economic, geopolitical, human-rights, or labor-management risks). What factors help to mitigate, or conversely exacerbate, these risks?

5. The effects of climate change on transportation and logistics infrastructure and its implications for supply chain resiliency.

6. Technology issues, including information systems, cybersecurity risks, and interoperability, that affect the safe, efficient, and reliable movement of goods. Would greater standardization of those technologies help address those challenges?

7. Key opportunities and challenges with respect to the existing and future workforce to ensure a well-functioning freight and logistics supply chain and achieve the President's goal of increasing good-paying jobs with the choice of a union. Are there additional workforce or skill set opportunities and needs currently, or expected in the future?

8. Current barriers (including statutory, regulatory, technological, institutional, labor and workforce, management, existing business models/practices issues) that inhibit supply chain performance. For any barriers identified, please address the actors involved and potential outcomes should those barriers be removed.

9. Critical assets that the sector relies upon and their expected future availability. Would increasing domestic production of these assets be desirable or feasible as a means of ensuring greater supply chain resiliency (chassis, containers, etc.)?

10. Technological practices, including data sharing, that are being implemented at various levels across the supply chain sector. What are the upsides, challenges, and drawbacks of further adoption?

11. Actions that DOT or other agencies in the U.S. Government (USG) could take under existing authorities or in partnership with States, local governments, the private sector, or labor to address current and evolving challenges within the freight and logistics sector.

12. Other policy recommendations or suggested executive, legislative, or regulatory changes to ensure a resilient supply chain that DOT/USG should consider, including means to collaborate more effectively across government agencies and suggestions based on state and international models.

13. Recommended actions by non-Federal entities, including State and local governments, private firms, labor, and other participants in the freight and logistics sector that could be encouraged by DOT/USG.

Dated: September 10, 2021.
Michael Shapiro,
Deputy Assistant Secretary for Economic Policy.

[FR Doc. 2021-19974 Filed 9-15-21; 8:45 am]

BILLING CODE 4910-9X-P